DEPARTMENT OF THE INTERIOR

[NPS-WASO-NAGPRA-11201; 2200-1100-665]

Notice of Inventory Completion: California Department of Parks and Recreation, Sacramento, CA

AGENCY: National Park Service, Interior.

ACTION: Notice.

SUMMARY: The California Department of Parks and Recreation has completed an inventory of human remains and associated funerary objects, in consultation with the appropriate Indian tribes, and has determined that there is a cultural affiliation between the human remains and associated funerary objects and present-day Indian tribes. Representatives of any Indian tribe that believes itself to be culturally affiliated with the human remains and associated funerary objects may contact the California Department of Parks and Recreation. Repatriation of the human remains to the Indian tribes stated below may occur if no additional claimants come forward.

DATES: Representatives of any Indian tribe that believes it has a cultural affiliation with the human remains and associated funerary objects should contact the California Department of Parks and Recreation at the address below by October 29, 2012.

ADDRESSES: Patrick C. Riordan, NAGPRA Coordinator, California Department of Parks and Recreation, 1416 9th Street Room 902, Sacramento, CA 95814, telephone (916) 375-5916.

SUPPLEMENTARY INFORMATION: Notice is here given in accordance with the Native American Graves Protection and Repatriation Act (NAGPRA), 25 U.S.C. 3003, of the completion of an inventory of human remains and associated funerary objects in the possession of the California Department of Parks and Recreation. The human remains are believed to have been removed from the massacre site at Wounded Knee in Shannon County, SD.

This notice is published as part of the National Park Service's administrative responsibilities under NAGPRA, 25 U.S.C. 3003(d) (3). The determinations in this notice are the sole responsibility of the museum, institution, or Federal agency that has control of the Native American human remains. The National Park Service is not responsible for the determinations in this notice.

Consultation

A detailed assessment of the human remains and associated funerary objects was made by the California Department of Parks and Recreation professional staff in consultation with representatives of the Cheyenne River Sioux Tribes of the Cheyenne River Reservation of South Dakota; Oglala Sioux Tribe of the Pine Ridge Reservation of South Dakota; and the Standing Rock Sioux Tribe of North and South Dakota (hereafter referred to as “The Tribes”).

History and Description of the Remains

In December of 1890, human remains representing, at minimum, two individuals were removed by an unknown person from the massacre site at Wounded Knee in Shannon County, SD. The human remains consist of two hanks of hair. At an unknown date, the remains were acquired by the California Department of Parks and Recreation, and these remains were included in a 1968 inventory for the Estudillo House at Old Town San Diego State Historic Park, along with other objects from Oxnard, CA. In 1988, the collection was transferred to the California Department of Parks and Recreation Statewide Museum Resources Center in West Sacramento and was housed with other human remains in the Department's NAGPRA Collections storage area. No known individuals were identified. The two associated funerary objects are bandanas wrapped around each of the two clusters of hair.

The Wounded Knee Massacre was the last major armed conflict between Indians and whites in the United States. The confrontation occurred on December 29, 1890, after the U.S. Army moved a group of approximately 340 Indians under the leadership of Sitanka (Big Foot) from their camp on the Cheyenne River at the Cheyenne River Agency to Wounded Knee Creek, approximately 20 miles from Pine Ridge Agency. Besides members of Sitanka's band from the Cheyenne River Agency, members of Sitting Bull's band from the Standing Rock Agency, and possibly a few Oglala from the Pine Ridge Agency, were present. Fighting began when the soldiers attempted to disarm the surrounded Sioux. Reportedly, one of the Sioux fired a shot and the soldiers began firing, indiscriminately killing women and children along with Sioux warriors. Estimates of the number of Sioux killed were as high as 300. About 39 U.S. soldiers were killed.

The human remains and associated funerary objects date from the Wounded Knee Massacre, on December 29, 1890. The geographical location is consistent with the occupation of the site by the historical bands of Sioux Indians. The associated funerary objects are consistent with the period when this region would have been occupied by the historical bands of Sioux Indians. Based upon the extant information about the acquisition of this collection by the California Department of Parks and Recreation and the historical events leading to the massacre at Wounded Knee, the California Department of Parks and Recreation Committee on Repatriation determined that there is a relationship of shared group identity which can be reasonably traced between these Native American human remains and associated funerary objects and The Tribes.

Determinations Made by the California Department of Parks and Recreation

Officials of the California Department of Parks and Recreation have determined that:

• Pursuant to 25 U.S.C. 3001(9), the human remains described in this notice represent the physical remains of two individuals of Native American ancestry.

• Pursuant to 25 U.S.C. 3001(3)(A), the two funerary objects described above are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Representatives of any Indian tribe that believes itself to be culturally affiliated with the human remains and associated funerary objects should contact Patrick C. Riordan, NAGPRA Coordinator, California Department of Parks and Recreation, 1416 9th Street, Room 902, Sacramento, CA 95814, telephone (916) 375-5916 before October 29, 2012. Repatriation of the human remains and associated funerary objects to The Tribes may proceed after that date if no additional claimants come forward.

The California Department of Parks and Recreation is responsible for notifying The Tribes that this notice has been published.

Dated: August 31, 2012.
Sherry Hutt,
Manager, National NAGPRA Program.

[FR Doc. 2012-23921 Filed 9-27-12; 8:45 am]

BILLING CODE 4312-50-P